FEDERAL MINE SAFETY AND HEALTH REVIEW COMMISSION

[ BAC 6735-01]

Sunshine Act Notice

April 25, 2016.

TIME AND DATE: 10:00 a.m., Thursday, May 5, 2016.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor on behalf of Charles Riordan v. Knox Creek Coal Corporation, Docket No. VA 2014-343-D (Issues include whether, in this discrimination case, substantial evidence supports the Judge's determination that the miner engaged in protected activity and that the proffered reason for his employment termination was pretextual.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2016-09967 Filed 4-25-16; 4:15 pm]

BILLING CODE 6735-01-P